DEPARTMENT OF THE INTERIOR

Fish and Wildlife Service

[FWS-R8-ES-2024-N041; FXES11130800000-245-FF08E00000]

Endangered and Threatened Wildlife and Plants; Initiation of 5-Year Status Reviews for 59 Pacific Southwest Species

AGENCY: Fish and Wildlife Service, Interior.

ACTION: Notice of initiation of reviews; request for information.

SUMMARY: We, the U.S. Fish and Wildlife Service, are initiating 5-year status reviews under the Endangered Species Act for 59 species. A 5-year status review is based on the best scientific and commercial data available at the time of the review; therefore, we are requesting submission of any new information on these species that has become available since the last reviews.

DATES: To ensure consideration of your information in our reviews, we must receive your comments or information on or before December 16, 2024. However, we will continue to accept new information about any species at any time.

ADDRESSES: For instructions on how to submit information for a species, see table 1 in the SUPPLEMENTARY INFORMATION section.

FOR FURTHER INFORMATION CONTACT: To request information on specific species, contact the appropriate person in the table in the SUPPLEMENTARY INFORMATION section or, for general information, contact Bjorn Erickson, via phone at (916) 414-6741, via email at peter_erickson@fws.gov, or via U.S. mail at U.S. Fish and Wildlife Service, 2800 Cottage Way, Suite W-2606, Sacramento, CA 95825. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, are initiating 5-year status reviews under the Endangered Species Act of 1973, as amended (ESA; 16 U.S.C. 1531 et seq.), for 32 animal species and 27 plant species. A 5-year status review is based on the best scientific and commercial data available at the time of the review; therefore, we are requesting submission of any such information that has become available since the last review for the species, particularly information on the status, threats, and recovery of the species.

Why do we conduct a 5-year review?

Under the ESA, we maintain Lists of Endangered and Threatened Wildlife and Plants (which we collectively refer to as the List) in title 50 of the Code of Federal Regulations (CFR) at 50 CFR 17.11 (for wildlife) and 50 CFR 17.12 (for plants). Section 4(c)(2)(A) of the ESA requires us to review each listed species' status at least once every 5 years. Our regulation at 50 CFR 424.21 requires that we publish a notice in the Federal Register announcing that a species is under active review. For additional information about 5-year reviews, refer to our fact sheet at https://www.fws.gov/project/five-year-status-reviews.

What information do we consider in our review?

A 5-year status review considers all new information available at the time of the review. In conducting these reviews, we consider the best scientific and commercial data that have become available since the current listing determination or most recent status review of each species, such as:

A. Species biology, including but not limited to population trends, distribution, abundance, demographics, and genetics;

B. Habitat conditions, including but not limited to amount, distribution, and suitability;

C. Conservation measures that have been implemented that benefit the species;

D. Threat status and trends in relation to the five listing factors (as defined in section 4(a)(1) of the ESA); and

E. Other new information, data, or corrections, including but not limited to taxonomic or nomenclatural changes, identification of erroneous information contained in the List, and improved analytical methods.

Any new information will be considered during the 5-year status review and will also be useful in evaluating the ongoing recovery programs for the species.

Which species are under review?

This notice announces 5-year status reviews for the species listed in table 1.

Table 1—Species Under Review
Common name | Scientific name | Listing status | Locations where the species is known to occur | Contact person, email, phone | Contact's mailing address (U.S. mail)
ANIMALS
Mammals
Fisher, Southern Sierra Nevada DPS | Pekania pennanti | E | CA | Amber Aguilera, fw8sfwocomments@fws.gov, 916-414-6626 | USFWS, 2800 Cottage Way, Suite W-2605, Sacramento, CA 95825.
Fox, San Joaquin kit | Vulpes macrotis mutica | E | CA | Amber Aguilera, fw8sfwocomments@fws.gov, 916-414-6626 | USFWS, 2800 Cottage Way, Suite W-2605, Sacramento, CA 95825.
Kangaroo rat, Fresno | Dipodomys nitratoides exilis | E | CA | Amber Aguilera, fw8sfwocomments@fws.gov, 916-414-6626 | USFWS, 2800 Cottage Way, Suite W-2605, Sacramento, CA 95825.
Kangaroo rat, giant | Dipodomys ingens | E | CA | Amber Aguilera, fw8sfwocomments@fws.gov, 916-414-6626 | USFWS, 2800 Cottage Way, Suite W-2605, Sacramento, CA 95825.
Kangaroo rat, Morro Bay | Dipodomys heermanni morroensis | E | CA | Samantha Lantz, samantha_lantz@fws.gov, 805-677-3314 | USFWS, 2493 Portola Road, Suite B, Ventura CA 93003.
Kangaroo rat, Stephens' | Dipodomys stephensii | Th | CA | Bradd Bridges, bradd_bridges@fws.gov, 760-431-9440 | USFWS, 2177 Salk Avenue, Suite 250, Carlsbad, CA 92008.
Kangaroo rat, Tipton | Dipodomys nitratoides nitratoides | E | CA | Amber Aguilera, fw8sfwocomments@fws.gov, 916-414-6626 | USFWS, 2800 Cottage Way, Suite W-2605, Sacramento, CA 95825.
Marten, Pacific | Martes caurina | T | CA, OR | Nora Papian, fw8_afwo_comments@fws.gov, 707-822-7201 | USFWS, 1655 Heindon Road, Arcata, CA 95521.
Mouse, Pacific pocket | Perognathus longimembris pacificus | E | CA | Bradd Bridges, bradd_bridges@fws.gov, 760-431-9440 | USFWS, 2177 Salk Avenue, Suite 250, Carlsbad, CA 92008.
Rabbit, riparian brush | Sylvilagus bachmani riparius | E | CA | Amber Aguilera, fw8sfwocomments@fws.gov, 916-414-6626 | USFWS, 2800 Cottage Way, Suite W-2605, Sacramento, CA 95825.
Shrew, Buena Vista Lake | Sorex ornatus relictus | E | CA | Amber Aguilera, fw8sfwocomments@fws.gov, 916-414-6626 | USFWS, 2800 Cottage Way, Suite W-2605, Sacramento, CA 95825.
Woodrat, riparian (=San Joaquin Valley) | Neotoma fuscipes riparia | E | CA | Amber Aguilera, fw8sfwocomments@fws.gov, 916-414-6626 | USFWS, 2800 Cottage Way, Suite W-2605, Sacramento, CA 95825.
Birds
Rail, California Ridgway's | Rallus longirostris obsoletus | E | CA | Steven Detwiler, steven_detwiler@fws.gov, 916-930-2640 | USFWS, 650 Capitol Mall, Suite 8-300, Sacramento, CA 95814.
Rail, light-footed Ridgway's | Rallus longirostris levipes | E | CA | Bradd Bridges, bradd_bridges@fws.gov, 760-431-9440 | USFWS, 2177 Salk Avenue, Suite 250, Carlsbad, CA 92008.
Shrike, San Clemente loggerhead | Lanius ludovicianus mearnsi | E | CA | Bradd Bridges, bradd_bridges@fws.gov, 760-431-9440 | USFWS, 2177 Salk Avenue, Suite 250, Carlsbad, CA 92008.
Tern, California least | Sterna antillarum browni | E | CA | Bradd Bridges, bradd_bridges@fws.gov, 760-431-9440 | USFWS, 2177 Salk Avenue, Suite 250, Carlsbad, CA 92008.
Reptiles
Lizard, blunt-nosed leopard | Gambelia silus | E | CA | Amber Aguilera, fw8sfwocomments@fws.gov; 916-414-6626 | USFWS, 2800 Cottage Way, Suite W-2605, Sacramento, CA 95825.
Snake, giant garter | Thamnophis gigas | T | CA | Amber Aguilera, fw8sfwocomments@fws.gov, 916-414-6626 | USFWS, 2800 Cottage Way, Suite W-2605, Sacramento, CA 95825.
Snake, San Francisco garter | Thamnophis sirtalis tetrataenia | E | CA | Amber Aguilera, fw8sfwocomments@fws.gov, 916-414-6626 | USFWS, 2800 Cottage Way, Suite W-2605, Sacramento, CA 95825.
Whipsnake (=striped racer), Alameda | Masticophis lateralis euryxanthus | T | CA | Amber Aguilera, fw8sfwocomments@fws.gov, 916-414-6626 | USFWS, 2800 Cottage Way, Suite W-2605, Sacramento, CA 95825.
Fishes
Chub, Mohave tui | Gila bicolor mohavensis | E | CA | Bradd Bridges, bradd_bridges@fws.gov, 760-431-9440 | USFWS, 2177 Salk Avenue, Suite 250, Carlsbad, CA 92008.
Pupfish, Ash Meadows Amargosa | Cyprinodon nevadensis mionectes | E | NV | Kellie Berry, kellie_berry@fws.gov, 702-515-5459 | USFWS, 4701 North Torrey Pines Drive, Las Vegas, NV 89130.
Trout, Paiute cutthroat | Oncorhynchus clarkii seleniris | T | CA | Anne Mankowski, RFWOmail@fws.gov, 775-861-6300 | USFWS, 1340 Financial Boulevard, Suite 234, Reno, NV 89502.
Amphibians
Salamander, desert slender | Batrachoseps aridus | E | CA | Bradd Bridges, bradd_bridges@fws.gov, 760-431-9440 | USFWS, 2177 Salk Avenue, Suite 250, Carlsbad, CA 92008.
Salamander, Santa Cruz long-toed | Ambystoma macrodactylum croceum | E | CA | Samantha Lantz, samantha_lantz@fws.gov, 805-677-3314 | USFWS, 2493 Portola Road, Suite B, Ventura CA 93003.
Insects
Butterfly, Behren's silverspot | Speyeria zerene behrensii | E | CA, OR | Nora Papian, fw8_afwo_comments@fws.gov, 707-822-7201 | USFWS, 1655 Heindon Road, Arcata, CA 95521.
Butterfly, lotis blue | Lycaeides argyrognomon lotis | E | CA | Nora Papian, fw8_afwo_comments@fws.gov, 707-822-7201 | USFWS, 1655 Heindon Road, Arcata, CA 95521.
Butterfly, callippe silverspot | Speyeria callippe callippe | E | CA | Amber Aguilera, fw8sfwocomments@fws.gov, 916-414-6626 | USFWS, 2800 Cottage Way, Suite W-2605, Sacramento, CA 95825.
Moth, Kern primrose sphinx | Euproserpinus euterpe | T | CA | Amber Aguilera, fw8sfwocomments@fws.gov, 916-414-6626 | USFWS, 2800 Cottage Way, Suite W-2605, Sacramento, CA 95825.
Butterfly, Lange's metalmark | Apodemia mormo langei | E | CA | Steven Detwiler, steven_detwiler@fws.gov, 916-930-2640 | USFWS, 650 Capitol Mall, Suite 8-300, Sacramento, CA 95814.
Naucorid, Ash Meadows | Ambrysus amargosus | T | NV | Kellie Berry, kellie_berry@fws.gov, 702-515-5459 | USFWS, 4701 North Torrey Pines Drive, Las Vegas, NV 89130.
Snails
Snail, Morro shoulderband | Helminthoglypta walkeriana | T | CA | Samantha Lantz, samantha_lantz@fws.gov, 805-677-3314 | USFWS, 2493 Portola Road, Suite B, Ventura CA 93003.
PLANTS
Flowering Plants
Rock-cress, McDonald's | Arabis macdonaldiana | E | CA | Nora Papian, fw8_afwo_comments@fws.gov, 707-822-7201 | USFWS, 1655 Heindon Road, Arcata, CA 95521.
Wallflower, Menzies' | Erysimum menziesii | E | CA | Nora Papian, fw8_afwo_comments@fws.gov, 707-822-7201 | USFWS, 1655 Heindon Road, Arcata, CA 95521.
Bird's-beak, salt marsh | Cordylanthus maritimus ssp. maritimus | E | CA, Mexico | Bradd Bridges, bradd_bridges@fws.gov, 760-431-9440 | USFWS, 2177 Salk Avenue, Suite 250, Carlsbad, CA 92008.
Ceanothus, Vail Lake | Ceanothus ophiochilus | E | CA | Bradd Bridges, bradd_bridges@fws.gov, 760-431-9440 | USFWS, 2177 Salk Avenue, Suite 250, Carlsbad, CA 92008.
Crownbeard, big-leaved | Verbesina dissita | T | CA | Bradd Bridges, bradd_bridges@fws.gov, 760-431-9440 | USFWS, 2177 Salk Avenue, Suite 250, Carlsbad, CA 92008.
Paintbrush, ash-grey Indian | Castilleja cinerea | T | CA | Bradd Bridges, bradd_bridges@fws.gov, 760-431-9440 | USFWS, 2177 Salk Avenue, Suite 250, Carlsbad, CA 92008.
Woodland-star, San Clemente Island | Lithophragma maximum | E | CA | Bradd Bridges, bradd_bridges@fws.gov, 760-431-9440 | USFWS, 2177 Salk Avenue, Suite 250, Carlsbad, CA 92008.
Cactus, Bakersfield | Opuntia treleasei | E | CA | Amber Aguilera, fw8sfwocomments@fws.gov, 916-414-6626 | USFWS, 2800 Cottage Way, Suite W-2605, Sacramento, CA 95825.
Checker-mallow, Keck's | Sidalcea keckii | E | CA | Amber Aguilera, fw8sfwocomments@fws.gov, 916-414-6626 | USFWS, 2800 Cottage Way, Suite W-2605, Sacramento, CA 95825.
Jewelflower, California | Caulanthus californicus | E | CA | Amber Aguilera, fw8sfwocomments@fws.gov, 916-414-6626 | USFWS, 2800 Cottage Way, Suite W-2605, Sacramento, CA 95825.
Mallow, Kern | Eremalche kernensis | E | CA | Amber Aguilera, fw8sfwocomments@fws.gov, 916-414-6626 | USFWS, 2800 Cottage Way, Suite W-2605, Sacramento, CA 95825.
Wooly-threads, San Joaquin | Lembertia congdonii | E | CA | Amber Aguilera, fw8sfwocomments@fws.gov, 916-414-6626 | USFWS, 2800 Cottage Way, Suite W-2605, Sacramento, CA 95825.
Evening-primrose, Antioch Dunes | Oenothera deltoides ssp. howellii | E | CA | Steven Detwiler, steven_detwiler@fws.gov, 916-930-2640 | USFWS, 650 Capitol Mall, Suite 8-300, Sacramento, CA 95814.
Blazing-star, Ash Meadows | Mentzelia leucophylla | T | NV | Kellie Berry, kellie_berry@fws.gov, 702-515-5459 | USFWS, 4701 North Torrey Pines Drive, Las Vegas, NV 89130.
Centaury, spring-loving | Centaurium namophilum | T | NV | Kellie Berry, kellie_berry@fws.gov, 702-515-5459 | USFWS, 4701 North Torrey Pines Drive, Las Vegas, NV 89130.
Gumplant, Ash Meadows | Grindelia fraxino-pratensis | T | NV | Kellie Berry, kellie_berry@fws.gov, 702-515-5459 | USFWS, 4701 North Torrey Pines Drive, Las Vegas, NV 89130.
Ivesia, Ash Meadows | Ivesia kingii var. eremica | T | NV | Kellie Berry, kellie_berry@fws.gov, 702-515-5459 | USFWS, 4701 North Torrey Pines Drive, Las Vegas, NV 89130.
Milk-vetch, Ash meadows | Astragalus phoenix | T | NV | Kellie Berry, kellie_berry@fws.gov, 702-515-5459 | USFWS, 4701 North Torrey Pines Drive, Las Vegas, NV 89130.
Sunray, Ash Meadows | Enceliopsis nudicaulis var. corrugata | T | NV | Kellie Berry, kellie_berry@fws.gov, 702-515-5459 | USFWS, 4701 North Torrey Pines Drive, Las Vegas, NV 89130.
Clover, Monterey | Trifolium trichocalyx | E | CA | Samantha Lantz, samantha_lantz@fws.gov, 805-677-3314 | USFWS, 2493 Portola Road, Suite B, Ventura CA 93003.
Gilia, Monterey | Gilia tenuiflora ssp. arenaria | E | CA | Samantha Lantz, samantha_lantz@fws.gov, 805-677-3314 | USFWS, 2493 Portola Road, Suite B, Ventura CA 93003.
Potentilla, Hickman's | Potentilla hickmanii | E | CA | Samantha Lantz, samantha_lantz@fws.gov, 805-677-3314 | USFWS, 2493 Portola Road, Suite B, Ventura CA 93003.
Sandwort, Marsh | Arenaria paludicola | E | CA, WA | Samantha Lantz, samantha_lantz@fws.gov, 805-677-3314 | USFWS, 2493 Portola Road, Suite B, Ventura CA 93003.
Bushmallow, Santa Cruz Island | Malacothamnus fasciculatus var. nesioticus | E | CA | Samantha Lantz, samantha_lantz@fws.gov, 805-677-3314 | USFWS, 2493 Portola Road, Suite B, Ventura CA 93003.
Liveforever, Santa Barbara Island | Dudleya traskiae | E | CA | Samantha Lantz, samantha_lantz@fws.gov, 805-677-3314 | USFWS, 2493 Portola Road, Suite B, Ventura CA 93003.
Phacelia, island | Phacelia insularis ssp. insularis | E | CA | Samantha Lantz, samantha_lantz@fws.gov, 805-677-3314 | USFWS, 2493 Portola Road, Suite B, Ventura CA 93003.
Dudleya, Santa Monica Mountains | Dudleya cymosa ssp. ovatifolia | T | CA | Samantha Lantz, samantha_lantz@fws.gov, 805-677-3314 | USFWS, 2493 Portola Road, Suite B, Ventura CA 93003.

Request for New Information

To ensure that a 5-year status review is complete and based on the best available scientific and commercial information, we request new information from all sources. See What Information Do We Consider in Our Review? for specific criteria. If you submit information, please support it with documentation such as maps, references, methods used to gather and analyze the data, and/or copies of any pertinent publications, reports, or letters by knowledgeable sources.

How do I ask questions or provide information?

If you wish to provide information for any species in Table 1, please submit your comments and materials to the appropriate contact in the table. You may also direct questions to those contacts (also see FOR FURTHER INFORMATION CONTACT).

Public Availability of Comments

Before including your address, phone number, email address, or other personal identifying information in your submission, you should be aware that your entire submission—including your personal identifying information—may be made publicly available at any time. Although you can request that personal information be withheld from public review, we cannot guarantee that we will be able to do so.

Completed and Active Reviews

A list of all completed and currently active 5-year status reviews can be found at https://ecos.fws.gov/ecp/report/species-five-year-review.

Authority

This document is published under the authority of the Endangered Species Act of 1973, as amended (16 U.S.C. 1531 et seq.).

Jill Russi,
Deputy Regional Director, Pacific Southwest Region, U.S. Fish and Wildlife Service.

[FR Doc. 2024-23830 Filed 10-15-24; 8:45 am]

BILLING CODE 4333-15-P